DEPARTMENT OF HEALTH AND HUMAN SERVICES

Administration on Aging

[Program Announcement No. AoA-03-06]

Fiscal Year 2003 Program Announcement; Availability of Funds and Notice Regarding Applications

AGENCY: Administration on Aging, HHS.

ACTION: Announcement of availability of funds and request for applications.

SUMMARY: The Administration on Aging announces that under this program announcement it will hold a competition for grant awards for eight (8) to ten (10) projects at a federal share of approximately $30,000 per year for a project period of one year.

Legislative authority: The Older Americans Act, Public Law 106-501 (Catalog of Federal Domestic Assistance 93.048, Title IV and Title II, Discretionary Projects).

Purpose of grant awards: To continue the Performance Measures Outcomes Project (POMP), AoA will fund new grant awards to support the development of new or revised program performance measures for programs funded under Title III of the Older Americans Act. The purpose of this competition is for States to work collaboratively in the development of recipient surveys to: (1) Refine current performance measurement tools for (a) home delivered meals/congregate meals programs, (b) the National Family Caregiver Support Program, and (c) case management, and (2) develop new performance measurement tools focusing on clients of senior centers.

Eligibility for grant awards and other requirements: Eligibility for grant awards is limited to State Units on Aging.

Grantees are required to provide at least 25 percent of the total program costs from non-federal cash or in-kind resources in order to be considered for the award. Executive Order 12372 is not applicable to these grant applications.

Screening criteria: In order for an application to be reviewed, it must meet the following screening requirements:

1. Applications must be postmarked or submitted electronically by midnight, or hand-delivered by 5 p.m., on August 4, 2003. Electronic submissions must be sent to: http//www.aoa.gov/egrants.

2. The Project Narrative section of the Application must be double-spaced, on single-sided 8½″ × 11″ plain white paper with 1″ margins on both sides, and must have a font size of not less than 11.

3. The project narrative must not exceed 25 pages.

Review of applications: Applications will be evaluated against the following criteria: Purpose and Need for Assistance (20 points); Approach, Work Plan and Activities (30 points); Project Outcomes, Evaluation and Dissemination (30 points); Level of Effort (20 points).

DATES: The deadline date for the submission of applications is August 4, 2003.

ADDRESSES: Application kits are available by writing to the U.S. Department of Health and Human Services, Administration on Aging, Office of Evaluation, Washington, DC 20201, by calling (202) 357-0145, or online at http://www.aoa.gov/egrants.

Applications may be mailed to the U.S. Department of Health and Human Services, Administration on Aging, Office of Grants Management, Washington, DC 20201, attn: Margaret Tolson (AoA-03-06).

Applications may be delivered to the U.S. Department of Health and Human Services, Administration on Aging, Office of Grants Management, One Massachusetts Avenue, NW., Room 4604, Washington, DC 20001, attn: Margaret Tolson (AoA-03-06). If you elect to mail or hand deliver your application you must submit one original and two copies of the application; an acknowledgement card will be mailed to applicants. Instructions for electronic mailing of grant applications are available at http://www.aoa.gov/egrants/

SUPPLEMENTARY INFORMATION: All grant applicants are encouraged to obtain a D-U-N-S number from Dun and Bradstreet. It is a nine-digit identification number, which provides unique identifiers of single business entities. The D-U-N-S number is free and easy to obtain from http://www.dnb.com/US/duns_update/.

FOR FURTHER INFORMATION CONTACT: U.S. Department of Health and Human Services, Administration on Aging, Office of Evaluation, Washington, DC 20201, telephone: (202) 357-0145.

Dated: June 30, 2003.
Josefina G. Carbonell,
Assistant Secretary for Aging.

[FR Doc. 03-16839 Filed 7-2-03; 8:45 am]

BILLING CODE 4154-01-P